DEPARTMENT OF TRANSPORTATION

Federal Highway Administration

Notice of Final Federal Agency Actions on Proposed Highway in Delaware

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to: a proposed highway project, the U.S. 301: MD/DE Line to SR1, South of the C&D Canal, New Castle County, Delaware, including the new 13 mile long U.S. 301 mainline on new alignment between the Delaware/Maryland state line and State Route (SR) 1, and the new 3.5 mile long Spur Road, on new alignment from proposed U.S. 301 in the vicinity of Armstrong Corner Road to the Summit Bridge, south of the Chesapeake and Delaware (C&D) Canal, State of Delaware. Those actions grant approvals for both parts of the proposed project.

DATES: By this notice, the FHWA is advising the public of final agency actions subject to 23 U.S.C. 139(l)(1). A claim seeking judicial review of the Federal agency actions on the highway project will be barred unless the claim is filed on or before March 17, 2009. If the Federal law that authorizes judicial review of a claim provides a time period of less than 180 days for filing such a claim, then that shorter time period still applies.

FOR FURTHER INFORMATION CONTACT: Daniel Montag, Project Manager, Federal Highway Administration, 300 South New Street, Suite 2101,Dover DE 19904; weekdays 8 a.m. to 4 p.m.; telephone 302-734-1719; e-mail: Daniel.Montag@fhwa.dot.gov. Mark Tudor, Project Director, Delaware Department of Transportation, 800 Bay Road, Dover DE 19903; weekdays 8 a.m. to 4 p.m.; telephone 302-760-2275; e-mail: Mark.Tudor@state.de.us.

SUPPLEMENTARY INFORMATION: Notice is hereby given that the FHWA and other Federal agencies have taken final agency actions by issuing licenses, permits and approvals for the proposed construction of new U.S. 301 in the State of Delaware that is described below. The actions by the Federal agencies on the project, and the laws under which such actions were taken, are described in the Final Environmental Impact Statement (FEIS) for the project approved on November 30, 2007 and issued on December 14, 2007 (FR Vol. 72, No. 240, p. 71138) and in the FHWA Record of Decision (ROD) issued on April 30, 2008, and in other project records. The FEIS, ROD, and other records for the project are available by contacting the FHWA or the Delaware Department of Transportation at the addresses provided above. In addition, the FEIS and ROD can be viewed and downloaded electronically from the project Web site, http://www.deldot.gov/information/projects/us301/, or viewed at public libraries and other public venues in the relevant project area.

This notice applies to all Federal agency decisions on the listed project as of the issuance date of this notice and all laws under which such actions were taken. The laws under which Federal agency decisions were made on the project include, but are not limited to:

1. General: National Environmental Policy Act (NEPA) [42 U.S.C. 4321-4351]; Federal-Aid Highway Act [23 U.S.C. 109].

2. Wetlands and Water Resources: Clean Water Act [33 U.S.C. 1251-1377] (Section 404, Section 401, Section 319); TEA-21 Wetlands Mitigation [23 U.S.C. 103(b)(6)(m), 133(b)(11)]; Coastal Zone Management Act [16 U.S.C. 1451-1465].

3. Air: Clean Air Act [42 U.S.C. 7401-7671(q) and applicable regulations promulgated under 40 CFR 93.

4. Wildlife: Endangered Species Act [16 U.S.C. 1531-1544 and Section 1536]; Bald Eagle Protection Act [16 U.S.C. 668-668d]; Migratory Bird Treaty Act [16 U.S.C. 703-712].

5. Historic and Cultural Resources: Section 106 of the National Historic Preservation Act of 1966, as amended [16 U.S.C. 470(f) et seq.]; Archaeological Resources Protection Act of 1977 [16 U.S.C. 470(aa)-(ii)]; Archaeological and Historic Preservation Act [16 U.S.C. 469-469(c)]; Native American Grave Protection and Repatriation Act (NAGPRA) [25 U.S.C. 3001-3013].

6. Land: Farmland Protection Policy Act (FPPA) [7 U.S.C. 4201-4209]; Section 4(f) of the Department of Transportation Act of 1966 [49 U.S.C. 303].

7. Social and Economic: Civil Rights Act of 1964 [42 U.S.C. 2000(d)-2000(d)(1)]; The Uniform Relocation Assistance and Real Property Acquisition Policies Act of 1970, as amended [23 CFR 450.318].

8. Executive Orders: Executive Order (E.O.) 12898, Federal Actions to Address Environmental Justice in Minority Populations and Low Income Populations; E.O. 11593, Protection and Enhancement of Cultural Resources; E.O. 13175, Consultation and Coordination with Indian Tribal Governments; E.O. 11514, Protection and Enhancement of Environmental Quality; E.O. 11990, Protection of Wetlands; E.O. 11988, Floodplain Management; E.O. 13112, Invasive Species.

The project subject to this notice is: U.S. 301: MD/DE Line to SR1, South of the C&D Canal. Project Location: New Castle County, Delaware. Project Reference number: 52-0599112.

Project Type: The Selected Alternative will provide a four-lane, tolled, limited access roadway on a new location, extending generally northward from the Maryland/Delaware state line, west of Middletown, to the vicinity of Armstrong Corner Road, where the new U.S. 301 mainline alignment will curve and extend northeast, crossing over existing U.S. 301, the Norfolk Southern Railroad, and existing SR 896 (Boyds Corner Road) before curving and extending east and tying into SR 1, north of the Biddles Corner Toll Plaza and south of the C&D Canal. Near Armstrong Corner Road, a two-lane, limited access, tolled Spur Road will extend north from new U.S. 301, on a new location to interchange with SR 15/SR 896 south of Summit Bridge and the C&D Canal. The U.S. 301 portion of the Selected Alternative will provide two 12-foot wide lanes in each direction and interchanges with: Levels Road, existing U.S. 301 north of Armstrong Corner Road, Jamison Corner Road, and SR 1 north of the Biddles Toll Plaza and south of the C&D Canal. The Spur Road portion of the Selected Alternative will provide one 12-foot lane in each direction and interchanges with new U.S. 301 near Armstrong Corner Road and SR 896/Bethel Church Road Extended (toll free), south of Summit Bridge. The Selected Alternative includes interchange Option 2A at existing U.S. 301, north of Armstrong Corner Road, Interchange Option 3B at SR 896/Bethel Church Road Extended, south of Summit Bridge, Alignment Option 4B Modified in the Ratledge Road/Boyds Corner Road area, and Alignment Option 1 Modified for the local road connection between Strawberry Lane and existing U.S. 301. Tolls will be collected utilizing electronic toll collection at highway speeds at the U.S. 301 mainline toll barrier near the Maryland/Delaware state line and at the interchange ramps to and from the north at Levels Road, existing U.S. 301 near Armstrong Corner Road, and Jamison Corner Road. The ramps to and from the north at the Spur Road interchange with SR 896/Bethel Church Road Extended will be toll free. Traditional cash lanes may also be provided at the toll barriers.

(Catalog of Federal Domestic Assistance Program Number 20.205, Highway Planning and Construction. The regulations implementing Executive Order 12372 regarding intergovernmental consultation on Federal programs and activities apply to this program.)

Authority: 23 U.S.C. 139(l)(1).

Issued on September 12, 2008.
Hassan Raza,
Division Administrator Dover, Delaware.

[FR Doc. E8-21855 Filed 9-17-08; 8:45 am]

BILLING CODE 4910-22-P